DEPARTMENT OF THE INTERIOR

Fish and Wildlife Service

Notice of Availability of the Post-Delisting Monitoring Plan for the American Peregrine Falcon (Falco peregrinus anatum)

AGENCY: Fish and Wildlife Service, Interior.

ACTION: Notice of document availability.

SUMMARY: We, the U.S. Fish and Wildlife Service, announce the availability of the post-delisting monitoring plan for the American Peregrine Falcon (Falco peregrinus anatum). This plan is titled, “Monitoring Plan for the American Peregrine Falcon, A Species Recovered Under the Endangered Species Act” (Monitoring Plan). The American peregrine falcon was removed from the List of Endangered and Threatened Wildlife and Plants in August 1999 due to its recovery. The Endangered Species Act of 1973, as amended in 1988 (Act) (16 U.S.C. 1531 et seq.), requires that we implement a system, in cooperation with the States, to monitor effectively for at least 5 years, the status of all species that have recovered and no longer need the protection of the Act.

ADDRESSES: Copies of the Monitoring Plan are available by request from Michael Green, Migratory Birds and State Programs, U.S. Fish and Wildlife Service, 911 NE. 11th Ave, Portland, OR 97232. Requests may also be made via fax at 503-231-2019, or via telephone at 503-231-6164. This Monitoring Plan is also available on the World Wide Web at http://migratorybirds.fws.gov and http://endangered.fws.gov/.

FOR FURTHER INFORMATION CONTACT: Michael Green, Migratory Birds and State Programs, at the above address, at michael_green@fws.gov, or at 503-231-6164.

SUPPLEMENTARY INFORMATION:

Background

The American peregrine falcon occurs throughout much of North America, from the subarctic boreal forests of Alaska and Canada south to Mexico. American peregrine falcons nest from central Alaska, central Yukon Territory, and northern Alberta and Saskatchewan, east to the Maritime Provinces, and south (excluding coastal areas north of the Columbia River in Washington and British Columbia) throughout western Canada and the United States to Baja California, Sonora, and the highlands of central Mexico. The American peregrine falcons that nest in subarctic areas generally winter in South America. Those that nest at lower latitudes exhibit variable migratory behavior; some do not migrate.

The American peregrine falcon declined precipitously in North America following World War II, a decline attributed largely to organochlorine pesticides, mainly DDT, applied in the United States, Canada, and Mexico. Because of the decline, the American peregrine falcon was listed as endangered on June 2, 1970, under the precursor of the Endangered Species Act (35 FR 16047). Recovery goals were substantially exceeded in some areas, and on August 25, 1999, the American peregrine falcon was removed from the List of Endangered and Threatened Wildlife and Plants (64 FR 46541). There are currently between 2,000 and 3,000 pairs breeding each year across the United States, Canada, and Mexico, and the population continues to increase.

Section 4(g)(1) of the Act requires that we monitor for not less than 5 years, in cooperation with States, the status of all species removed from the List of Endangered and Threatened Wildlife and Plants due to recovery. In keeping with that mandate, we have developed this Monitoring Plan to guide our ongoing monitoring efforts in cooperation with State resource agencies, recovery team members, independent scientists, biostatisticians, and other cooperators. A 30-day public comment period was opened on July 31, 2001 (66 FR 39523), and again on September 27, 2001 (66 FR 49395), and the Monitoring Plan received additional review by States, cooperators, and other private organizations and individuals in December 2002 and January 2003.

The Monitoring Plan is designed to monitor the status of the American peregrine falcon by detecting whether the number of occupied American peregrine falcon territories across the contiguous United States and Alaska is declining, and whether American peregrine falcons are experiencing a decrease in nesting success and productivity, which are indices of population health. The Monitoring Plan also includes a contaminant monitoring component. Data will be collected from a randomly selected subset of American peregrine falcon territories (494 across the nation) for five sampling periods, at three-year intervals starting in 2003 and ending in 2015. The 2003 monitoring effort is currently underway. We will publish a report on the results of the 2003 monitoring once the data are analyzed. This will be the first of our triennial reports. A Notice of Availability for the triennial and final reports will be published in the Federal Register and posted on the World Wide Web as outlined in the Monitoring Plan.

We will work cooperatively with the States, other agencies, and partners to collect this information. We will analyze the information after each monitoring effort and will propose adjustments to the sampling design, if necessary. The Monitoring Plan is designed to detect declines in the health of American peregrine falcon populations that might arise from a variety of threats including, but not limited to, environmental contaminants and diseases (such as West Nile Virus). If these data indicate that this species is experiencing significant decreases in territory occupancy, nest success, or productivity, we will initiate more intensive review or studies to determine the cause, or take action to re-list the American peregrine falcon under section 4 of the Act, if necessary.

In accordance with the Paperwork Reduction Act of 1995 (44 U.S.C. 3501 et seq.), the information collection and recordkeeping requirements included in the Monitoring Plan have been approved by the Office of Management and Budget (OMB) under OMB control number 1018-0101, which expires March 31, 2005. An agency may not conduct or sponsor, and a person is not required to respond to, a collection of information unless it displays a currently valid OMB control number.

Authority

The authority for this action is the Endangered Species Act of 1973, as amended in 1988 (16 U.S.C. 1531 et seq.).

Dated: October 23, 2003.
Matt Hogan,
Acting Director, Fish and Wildlife Service.

[FR Doc. 03-30065 Filed 12-2-03; 8:45 am]

BILLING CODE 4310-55-P